DEPARTMENT OF HEALTH AND HUMAN SERVICES

Centers for Disease Control and Prevention

[30Day-06-06AL]

Agency Forms Undergoing Paperwork Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Customer Surveys Generic Clearance for the National Center for Health Statistics—New-National Center for Health Statistics (NCHS), Centers for Disease Control and Prevention (CDC).

Background and Brief Description

As part of a comprehensive program, the National Center for Health Statistics (NCHS) plans to assess its customers' satisfaction with the quality and relevance of the information it produces. NCHS will conduct voluntary customer surveys to assess strengths in agency products and services. Results of these surveys will be used in future planning initiatives. This is a request for a generic approval from OMB to conduct customer surveys over the next three years.

The data will be collected using a combination of methodologies appropriate to each survey. These may include: Evaluation forms, mail surveys, focus groups, automated and electronic technology (e.g., e-mail, Web-based surveys), and telephone surveys. Systematic surveys of several groups will be folded into the program. Among these are Federal customers and policy makers, state and local officials who rely on NCHS data, the broader educational, research, and public health community, and other data users. The 2006 surveys will include: (1) A self-selected broad-based group of data users who register for and/or attend NCHS sponsored conferences and (2) all persons who access the NCHS Web site. Data items will include (in broad categories) information regarding an individual's gender, age, occupation, affiliation, location, etc. The proposed questions will attempt to obtain information that will characterize the respondents' familiarity with and use of NCHS data, their assessment of usefulness, general satisfaction with available services and products, and suggestions for improvement of services and products. There is no cost to respondents other than their time to participate in the survey. The total estimated annualized burden hours are 547.

Estimated Annualized Burden Hours
Type of survey | Number of respondents | Number of responses per respondent | Average burden per response (in hours)
Questionnaire for conference registrants/attendees | 1,000 | 1 | 10/60
Focus groups | 80 | 1 | 1
Web-based | 1,200 | 1 | 10/60
Other customer surveys | 400 | 1 | 15/60

Dated: May 9, 2006.
Joan F. Karr,
Acting Reports Clearance Officer, Centers for Disease Control and Prevention.

[FR Doc. E6-7634 Filed 5-18-06; 8:45 am]

BILLING CODE 4163-18-P